DEPARTMENT OF DEFENSE

Office of the Secretary

Notice of Intent To Grant an Exclusive License; Interleaf Learning, LLC

AGENCY: National Security Agency, DoD.

ACTION: Notice of intent.

SUMMARY: The National Security Agency hereby gives notice of its intent to grant Interleaf Learning, LLC a revocable, non-assignable, exclusive, license to practice the following Government-Owned invention as described and claimed in United States Patent Number (USPN), 8,380,485 B1, Device for and method of language processing; United States Trademark Registration Number (USTRN), 3802723, Design Plus Words, Letters, and/or numbers Mark: Scribezone; and USTRN, 3802712, Standard Character Mark: Scribezone.

DATES: Anyone wishing to object to the grant of this license has until April 8, 2019 to file written objections including evidence and argument that establish that the grant of the license would not be consistent with the requirements of 35 U.S.C. 209 and 37 CFR 404.7.

ADDRESSES: Written objections are to be filed with the National Security Agency Technology Transfer Program, 9800 Savage Road, Suite 6843, Fort George G. Meade, MD 20755-6843.

FOR FURTHER INFORMATION CONTACT: Linda L. Burger, Director, Technology Transfer Program, 9800 Savage Road, Suite 6843, Fort George G. Meade, MD 20755-6843, telephone (443) 634-3518.

SUPPLEMENTARY INFORMATION: The prospective exclusive license will comply with the terms and conditions of 35 U.S.C. 209 and 37 CFR 404.7. The patent rights in these inventions have been assigned to the United States Government as represented by the National Security Agency.

Dated: March 18, 2019.
Aaron T. Siegel,
Alternate OSD Federal Register Liaison Officer, Department of Defense.

[FR Doc. 2019-05437 Filed 3-21-19; 8:45 am]

BILLING CODE 5001-06-P